DEPARTMENT OF ENERGY

Federal Energy Regulatory Commission

[Project No. 77-318]

Notice of Reasonable Period of Time For Water Quality Certification Application; Pacific Gas and Electric Company

On March 21, 2025, California State Water Resources Control Board submitted to the Federal Energy Regulatory Commission (Commission) notice that it received a request for a Clean Water Act section 401(a)(1) water quality certification as defined in 40 CFR 121.5, from Pacific Gas and Electric Company in conjunction with the above captioned project on February 20, 2025. Pursuant to the Commission's regulations,¹ we hereby notify the California State Water Resources Control Board of the following:

¹ 18 CFR 4.201(e).

Date of Receipt of the Certification Request: February 20, 2025.

Reasonable Period of Time to Act on the Certification Request: One year, February 20, 2026.

If California State Water Resources Control Board fails or refuses to act on the water quality certification request on or before the above date, then the certifying authority is deemed waived pursuant to section 401(a)(1) of the Clean Water Act, 33 U.S.C. 1341(a)(1).

Dated: April 10, 2025.
Carlos D. Clay,
Deputy Secretary.

[FR Doc. 2025-06434 Filed 4-15-25; 8:45 am]

BILLING CODE 6717-01-P